DEPARTMENT OF HEALTH AND HUMAN SERVICES

Centers for Disease Control and Prevention

Disease, Disability, and Injury Prevention and Control

Special Emphasis Panel (SEP): Prevention of Suicidal Behavior through the Enhancement of Connectedness (U01), Request for Applications (RFA) CE10-006, initial review.

In accordance with section 10(a)(2) of the Federal Advisory Committee Act (Pub. L. 92-463), the Centers for Disease Control and Prevention (CDC), announces the aforementioned meeting:

Times and Date: 11:30 a.m.-6:30 p.m., June 17, 2010 (Closed).

Place: Teleconference.

Status: The meeting will be closed to the public in accordance with provisions set forth in Section 552b(c)(4) and (6), Title 5, U.S.C., and the Determination of the Director, Management Analysis and Services Office, CDC, pursuant to Section 10(d) of Public Law 92-463.

Matters To Be Discussed: The meeting will include the initial review, discussion, and evaluation of applications received in response to “Prevention of Suicidal Behavior through the Enhancement of Connectedness (U01), RFA CE10-006”.

Agenda items are subject to change as priorities dictate.

Contact Person for More Information: Jane Suen, Dr.P.H., M.S., National Center for Injury Prevention and Control, Office of the Director, Extramural Research Program Office, 4770 Buford Highway, NE., Mailstop F-63, Atlanta, Georgia 30341, Telephone (770) 488-4281.

The Director, Management Analysis and Services Office has been delegated the authority to sign Federal Register notices pertaining to announcements of meetings and other committee management activities for both CDC and the Agency for Toxic Substances and Disease Registry.

Dated: May 11, 2010.
Elaine L. Baker,
Director, Management Analysis and Services Office, Centers for Disease Control and Prevention.

[FR Doc. 2010-11887 Filed 5-17-10; 8:45 am]

BILLING CODE 4163-18-P